DEPARTMENT OF JUSTICE

Bureau of Alcohol, Tobacco, Firearms, and Explosives

27 CFR Part 478

[Docket No. ATF 2015R-26; AG Order No. 3681-2016]

RIN 1140-AA50

Recordkeeping Regulations

AGENCY: Bureau of Alcohol, Tobacco, Firearms, and Explosives (ATF), Department of Justice.

ACTION: Final rule; technical amendments.

SUMMARY: This final rule makes technical amendments to regulations pertaining to certain firearms recordkeeping requirements to provide clarity and enhance uniformity. The technical changes are being made in the wording of three tables to reflect the same wording in the body of the regulations associated with the tables regarding the required description of firearms for recordkeeping purposes.

DATES: This rule is effective June 13, 2016.

FOR FURTHER INFORMATION CONTACT: Shermaine Kenner, Office of Regulatory Affairs, Enforcement Programs and Services, Bureau of Alcohol, Tobacco, Firearms, and Explosives, U.S. Department of Justice, 99 New York Avenue NE., Washington, DC 20226; telephone: (202) 648-7070 (this is not a toll-free number).

SUPPLEMENTARY INFORMATION:

I. Background

The Bureau of Alcohol, Tobacco, Firearms, and Explosives (ATF) administers regulations published in 27 Code of Federal Regulations (CFR) part 478. ATF has identified three technical amendments needed to provide clarity and uniformity to the recordkeeping requirements prescribed in 27 CFR 478.125(e) and (f)(1) and 478.125a(a)(4) and the tables titled, “Firearms Acquisition and Disposition Record,” “Firearms Collectors Acquisition and Disposition Record,” and “Disposition Record of Personal Firearms,” associated with §§ 478.125(e) and (f)(2), and 478.125a(a)(4) respectively. Specifically, there is a discrepancy between the wording used in the body of the regulations found at §§ 478.125(e) and (f)(1) and 478.125a(a)(4) and the wording used in the tables, listed above, regarding the required description of firearms for recordkeeping purposes.

The regulations at §§ 478.125(e) and (f)(1) and 478.125a(a)(4) prescribe substantive recordkeeping requirements for the receipt and disposition of firearms by certain licensed parties, to include the prescribed format for recording required information. Specifically, licensed parties must record “the name of the manufacturer and importer (if any)” associated with the firearms acquired and disposed of by the licensed party. The regulations at §§ 478.125(e) and (f)(2) and 478.125a(a)(4) include tables that illustrate the format required for recording the receipt and disposition of firearms. ATF has identified a discrepancy between the language used in the body of these regulations, which requires a record of, inter alia, “the name of the manufacturer and importer (if any)” and the language used in the corresponding tables, which calls for the “manufacturer and/or importer.” Therefore, these tables associated with §§ 478.125(e) and (f) and 478.125a(a)(4) are being amended to ensure agreement between the wording in the tables with the wording in the body of the regulations by replacing “Manufacturer and/or importer” with “Manufacturer and importer (if any).”

II. Statutory Orders and Executive Review

A. Executive Order 12866 and Executive Order 13563

This final rule has been drafted and reviewed in accordance with Executive Order 12866, “Regulatory Planning and Review,” section 1(b), The Principles of Regulation, and Executive Order 13563, “Improving Regulation and Regulatory Review,” section 1(b). This rule pertains to agency organization, management, or personnel matters as described by Executive Order 12866, section 3(d)(3) and, therefore, is not a “regulation” or “rule” as defined by that Executive Order.

B. Executive Order 13132

This final rule will not have substantial direct effects on the States, on the relationship between the Federal Government and the States, or on the distribution of power and responsibilities among the various levels of government. Therefore, in accordance with section 6 of Executive Order 13132, “Federalism,” the Attorney General has determined that this regulation does not have sufficient federalism implications to warrant the preparation of a federalism summary impact statement.

C. Executive Order 12988

This regulation meets the applicable standards set forth in sections 3(a) and 3(b)(2) of Executive Order 12988, “Civil Justice Reform.”

D. Administrative Procedure Act

The revisions to the regulations in this final rule are matters of agency organization, procedure, and practice that will not affect individual rights and obligations. As such, this rule is exempt from the usual requirements of prior notice and comment and a 30-day delay in the effective date. See 5 U.S.C. 553(a)(2), (b)(A), and (d)(3). Moreover, the Department finds good cause for exempting the rule from those requirements. Because this final rule makes technical corrections to improve the clarity of the regulations, the Department finds it unnecessary to publish this rule for public notice and comment. Similarly, because delaying the effective date of this rule would serve no purpose, the Department also finds good cause to make this rule effective upon publication.

E. Regulatory Flexibility Act

The Attorney General, in accordance with the Regulatory Flexibility Act, 5 U.S.C. 605(b), has reviewed this rule and, by approving it, certifies that it will not have a significant economic impact on a substantial number of small entities because it pertains to personnel and administrative matters affecting the Department. Further, a Regulatory Flexibility Analysis is not required for this final rule because the Department was not required to publish a general notice of proposed rulemaking for this matter.

F. Small Business Regulatory Enforcement Fairness Act of 1996

This rule is not a major rule as defined by section 251 of the Small Business Regulatory Enforcement Fairness Act of 1996, 5 U.S.C. 804. This rule will not result in an annual effect on the economy of $100 million or more; a major increase in costs or prices; or significant adverse effects on competition, employment, investment, productivity, innovation, or on the ability of United States-based enterprises to compete with foreign-based enterprises in domestic and export markets.

G. Unfunded Mandates Reform Act of 1995

This rule will not result in the expenditure by State, local, and tribal governments, in the aggregate, or by the private sector, of $100 million or more in any one year; will not significantly or uniquely affect small governments and does not contain significant intergovernmental mandates. Therefore, no actions were deemed necessary under the provisions of the Unfunded Mandates Reform Act of 1995, 2 U.S.C. 1531-1535.

H. Paperwork Reduction Act of 1995

This final rule does not impose any new reporting or recordkeeping requirements under the Paperwork Reduction Act, 44 U.S.C. 3501-3521.

I. Congressional Review Act

This action pertains to agency organization, procedure, or practice, and does not substantially affect the rights or obligations of non-agency parties and, accordingly, is not a “rule” as that term is used by the Congressional Review Act (Subtitle E of the Small Business Regulatory Enforcement Fairness Act of 1996). See 5 U.S.C. 804(3). Therefore, the reporting requirement of 5 U.S.C. 801 does not apply.

List of Subjects in 27 CFR Part 478

Administrative practice and procedure, Arms and munitions, Customs duties and inspection, Exports, Imports, Intergovernmental relations, Law enforcement officers, Military personnel, Penalties, Reporting and recordkeeping requirements, Research, Seizures and forfeitures, and Transportation.

Authority and Issuance

Accordingly, for the reasons discussed in the preamble, 27 CFR part 478 is amended as follows:

PART 478—COMMERCE IN FIREARMS AND AMMUNITION

1. The authority citation for 27 CFR part 478 continues to read as follows:

Authority: 5 U.S.C. 552(a); 18 U.S.C. 847, 921-931; 44 U.S.C. 3504(h).

§ 478.125 [Amended]

2. Amend § 478.125:

a. In paragraph (e) by removing the words “Manufacturer and/or Importer” in the associated table and adding in their place the words “Manufacturer and importer (if any)”; and

b. In paragraph (f)(2) by removing the words “Manufacturer and/or importer” in the associated table and adding in their place the words “Manufacturer and importer (if any)”.

§ 478.125a [Amended]

3. Amend § 478.125a in paragraph (a)(4) by removing the words “Manufacturer and/or importer” in the associated table and adding in their place the words “Manufacturer and importer (if any)”.

Dated: June 7, 2016.
Loretta E. Lynch,
Attorney General.

[FR Doc. 2016-13878 Filed 6-10-16; 8:45 am]

BILLING CODE 4410-FY-P